DEPARTMENT OF TRANSPORTATION

Federal Aviation Administration

14 CFR Part 39

[Docket No. FAA-2014-0337; Directorate Identifier 2013-SW-029-AD; Amendment 39-18008; AD 2014-22-03]

RIN 2120-AA64

Airworthiness Directives; Various Restricted Category Helicopters

AGENCY: Federal Aviation Administration (FAA), DOT.

ACTION: Final rule.

SUMMARY: We are superseding Airworthiness Directive (AD) 2012-14-11 for Arrow Falcon Exporters, Inc. (AFE), Rotorcraft Development Corporation (RDC), and San Joaquin Helicopters (SJH) Model OH-58A, OH-58A+, and OH-58C helicopters. AD 2012-14-11 required inspecting the main rotor mast (mast) for a crack. This new AD expands the mast inspection area, changes the inspection to a repetitive inspection, and removes the reporting requirement. The actions in this AD are intended to prevent failure of the mast and subsequent loss of control of the helicopter.

DATES: This AD is effective December 19, 2014.

ADDRESSES: For Arrow Falcon Exporters, Inc. service information identified in this AD, contact Arrow Falcon Exporters, Inc., 2081 South Wildcat Way, Porterville, CA 93257; telephone (559) 781-8604; fax (559) 781-9271; email afe@arrowfalcon.com.

For Rotorcraft Development Corporation service information, contact Rotorcraft Development Corporation, PO Box 430, 1004 Eastside Highway, Corvallis, MT 59828; telephone (406) 961-4100; fax (406) 961-4101; or at http://www.rotorcraftdevelopment.com.

For United States Army service information, contact Commander, U. S. Army Aviation and Missile Command, ATTN: AMSAM-MMA-NP, Redstone Arsenal, AL 35898-5000, telephone (256) 876-4044; or at https://www.logsa.army.mil/etmpdf/files/030000/035016.pdf.

You may view this referenced service information at the FAA, Office of the Regional Counsel, Southwest Region, 2601 Meacham Blvd., Room 663, Fort Worth, Texas 76137.

Examining the AD Docket

You may examine the AD docket on the Internet at http://www.regulations.gov in Docket No. FAA-2014-0337; or in person at the Docket Management Facility between 9 a.m. and 5 p.m., Monday through Friday, except Federal holidays. The AD docket contains this AD, the economic evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: John Cecil, Aviation Safety Engineer, Los Angeles Aircraft Certification Office, Transport Airplane Directorate, FAA, 3960 Paramount Blvd., Lakewood, CA 90712; telephone (562) 627-5228; email john.cecil@faa.gov; or Roger Caldwell, Aerospace Engineer, Denver Aircraft Certification Office, FAA, 26805 East 68th Ave., Room 214, Denver, CO 80249; telephone (303) 342-1086; email roger.caldwell@faa.gov.

SUPPLEMENTARY INFORMATION:

Discussion

We issued a notice of proposed rulemaking (NPRM) to amend 14 CFR part 39 to remove AD 2012-14-11, Amendment 39-17125 (77 FR 42971, July 23, 2012) and add a new AD. AD 2012-14-11 applied to AFE, RDC, and SJH Model OH-58A, OH-58A+, and OH-58C helicopters and required overhauling the mast and performing magnetic particle, fluorescent penetrant, and visual inspections for a crack, pitting, or corrosion in the threaded area of the mast and associated parts. AD 2012-14-11 also required replacing the mast and reporting the results of the inspections if any crack, pitting, or corrosion was found. AD 2012-14-11 was prompted by two mast failures caused by fatigue cracking and was intended to prevent failure of the mast and subsequent loss of control of the helicopter.

The NPRM published in the Federal Register on June 2, 2014 (79 FR 31233) and proposed retaining the mast inspection and overhaul requirements of AD 2012-14-11, while changing the compliance time for the inspection from within 30 days to within 90 days, repeating the inspection every 1,200 hours TIS or 3 years, expanding the inspection area, and removing the reporting requirement.

Comments

We gave the public the opportunity to participate in developing this AD, but we did not receive any comments on the NPRM (79 FR 31233, June 2, 2014).

FAA's Determination

We have reviewed the relevant information and determined that an unsafe condition exists and is likely to exist or develop on other helicopters of these same type designs and that air safety and the public interest require adopting the AD requirements as proposed.

Related Service Information

AFE issued Alert Service Bulletin (ASB): 2012-58-01, Revision 1, dated February 20, 2012 (ASB 2012-58-01), which specifies overhauling and inspecting the mast for any cracks, pitting, or corrosion by following the procedures in the United States Army Aviation Unit and Intermediate Maintenance Manual TM55-1520-228-23. ASB 2012-58-01 further specifies replacing any mast with a crack, pitting, or corrosion beyond surface rust that is removed with a wire brush or steel wool in the threaded portion of the mast.

RDC has issued ASB No. OH-58-13-01, dated January 30, 2013, which describes additional procedures for inspecting the mast and establishes an overhaul interval of 1,200 hours TIS or 3 years, whichever occurs first.

Differences Between This AD and the Service Information

The service information does not apply to SJH helicopters. Those helicopters are included in this AD because they have the same mast design and are operated similarly to the AFE and RDC fleets.

Costs of Compliance

We estimate that this AD affects 80 helicopters of U.S. Registry and that operators will incur the following costs in order to comply with this AD. At an average labor rate of $85 per hour, inspecting the mast requires about 20 work hours, for a total cost of $1,700 per helicopter, and a total cost to the U.S. operator fleet of $136,000. Replacing a cracked main rotor mast requires about 20 work hours, and required parts cost $11,891, for a total cost per helicopter of $13,591.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that a regulatory distinction is required, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-14-11, Amendment 39-17125 (77 FR 42971, July 23, 2012), and adding the following new AD:

2014-22-03 Various Restricted Category Helicopters: Amendment 39-18008; Docket No. FAA-2014-0337; Directorate Identifier 2014-SW-029-AD.

(a) Applicability

This AD applies to Arrow Falcon Exporters, Inc. (AFE), Rotorcraft Development Corporation (RDC) (formerly Garlick Helicopter Corporation, and Garlick Helicopter, Inc.), and San Joaquin Helicopters (SJH) Model OH-58A, OH-58A+, and OH-58C helicopters, certificated in any category.

(b) Unsafe Condition

This AD defines the unsafe condition as a crack in the main rotor mast, which could result in failure of the mast and subsequent loss of control of the helicopter.

(c) Affected AD

This AD supersedes AD 2012-14-11, Amendment 39-17125 (77 FR 42971, July 23, 2012).

(d) Effective Date

This AD becomes effective December 19, 2014.

(e) Compliance

You are responsible for performing each action required by this AD within the specified compliance time unless it has already been accomplished prior to that time.

(f) Required Actions

(1) Within 90 days, unless accomplished previously within the last 12 months, and thereafter at intervals not exceeding 1,200 hours time-in-service or 3 years, whichever occurs earlier:

(i) Remove any surface rust with a wire brush or steel wool and, using a 10X or higher power magnifying glass, inspect the areas of the mast as shown in area E and area J of Figure 1 to Paragraph (f) of this AD for pitting, corrosion, or a crack.

(ii) Overhaul the main rotor mast assembly and magnetic particle inspect the mast; mast bearing nut; plate, mast and seal; and bearing liner for a crack.

(iii) Fluorescent penetrant inspect the locking plate for a crack.

(2) If there is a crack, pitting, or corrosion, before further flight, replace the mast with an airworthy mast.

(g) Alternative Methods of Compliance (AMOCs)

(1) For AFE and SJH helicopters, the Manager, Los Angeles Aircraft Certification Office, FAA, may approve AMOCs for this AD. Send your proposal to: John Cecil, Aviation Safety Engineer, Los Angeles Aircraft Certification Office, Transport Airplane Directorate, FAA, 3960 Paramount Blvd., Lakewood, CA 90712; telephone (562) 627-5228; email john.cecil@faa.gov.

(2) For RDC helicopters, the Manager, Denver Aircraft Certification Office, FAA, may approve AMOCs for this AD. Send your proposal to: Roger Caldwell, Aerospace Engineer, Denver Aircraft Certification Office, FAA, 26805 East 68th Ave., Room 214, Denver, CO 80249; telephone (303) 342-1086; email roger.caldwell@faa.gov.

(3) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Arrow Falcon Exporters, Inc., Alert Service Bulletin: 2012-58-01, Revision 1, dated February 20, 2012, which is not incorporated by reference, contains more information about the subject of this AD. For Arrow Falcon Exporters, Inc. service information identified in this AD, contact Arrow Falcon Exporters, Inc., 2081 South Wildcat Way, Porterville, CA 93257; telephone (559) 781-8604; fax (559) 781-9271; email afe@arrowfalcon.com.

(2) Rotorcraft Development Corporation Alert Service Bulletin No. OH58-13-01, dated January 30, 2013, which is not incorporated by reference, contains more information about the subject of this AD. For Rotorcraft Development Corporation service information, contact Rotorcraft Development Corporation, PO Box 430, 1004 Eastside Highway, Corvallis, MT 59828; telephone (406) 961-4100; fax (406) 961-4101; or at http://www.rotorcraftdevelopment.com.

(3) United States Army Technical Manual Aviation Unit and Intermediate Maintenance Manual Army Model OH-58A and OH-58C Helicopters, TM 55-1520-228-23-1, which is not incorporated by reference, contains more information about the subject of this AD. For United States Army service information, contact Commander, U.S. Army Aviation and Missile Command, ATTN: AMSAM-MMA-NP, Redstone Arsenal, AL 35898-5000, telephone (256) 876-4044; or at https://www.logsa.army.mil/etmpdf/files/030000/035016.pdf.

(4) You may review the service information at the FAA, Office of the Regional Counsel, Southwest Region, 2601 Meacham Blvd., Room 663, Fort Worth, Texas 76137.

(i) Subject

Joint Aircraft Service Component (JASC) Code: 6300: Main Rotor Drive.

Issued in Fort Worth, Texas, on October 24, 2014.
Lance T. Gant,
Acting Directorate Manager, Rotorcraft Directorate, Aircraft Certification Service.

[FR Doc. 2014-26829 Filed 11-13-14; 8:45 am]

BILLING CODE 4910-13-P